DEPARTMENT OF THE INTERIOR

Bureau of Safety and Environmental Enforcement

[Docket ID No. BSEE-2012-0001; OMB Number 1014-NEW]

Information Collection Activity: Subpart C, Pollution Prevention and Control; Submitted for Office of Management and Budget (OMB) Review; Comment Request

ACTION: 30-day Notice.

SUMMARY: To comply with the Paperwork Reduction Act of 1995 (PRA), we are notifying the public that we have submitted to OMB an information collection request (ICR) to renew approval of the paperwork requirements in the regulations under Subpart C, Pollution Prevention and Control. This notice also provides the public a second opportunity to comment on the paperwork burden of these regulatory requirements.

DATE: Submit written comments by September 28, 2012.

ADDRESSES: Submit comments by either fax (202) 395-5806 or email (OIRA_DOCKET@omb.eop.gov) directly to the Office of Information and Regulatory Affairs, OMB, Attention: Desk Officer for the Department of the Interior (1014-NEW). Please also provide a copy of your comments to BSEE by any of the means below.

• Electronically: go to http://www.regulations.gov. In the entry titled, “Enter Keyword or ID,” enter BSEE-2012-0001 then click search. Follow the instructions to submit public comments and view all related materials. We will post all comments.

• Email cheryl.blundon@bsee.gov, fax (703) 787-1546, or mail or hand-carry comments to: Department of the Interior; Bureau of Safety and Environmental Enforcement; Regulations Development Branch; Attention: Cheryl Blundon; 381 Elden Street, HE3313; Herndon, Virginia 20170-4817. Please reference 1014-NEW, subpart C, in your comment and include your name and return address.

FOR FURTHER INFORMATION CONTACT: Cheryl Blundon, Regulations Development Branch, (703) 787-1607. To see a copy of the entire ICR submitted to OMB, go to http://www.reginfo.gov (select Information Collection Review, Currently Under Review). You may also contact Cheryl Blundon to obtain a copy, at no cost, of the regulation that requires the subject collection of information.

SUPPLEMENTARY INFORMATION:

Title: 30 CFR 250, Subpart C, Pollution Prevention and Control.

OMB Control Number: 1014-NEW.

Abstract: The Outer Continental Shelf (OCS) Lands Act, as amended (43 U.S.C. 1331 et seq. and 43 U.S.C. 1801 et seq.), authorizes the Secretary of the Interior to prescribe rules and regulations to administer leasing of mineral resources on the OCS. Such rules and regulations will apply to all operations conducted under a lease, right-of-way, or a right-of-use and easement.

Section 1332(6) states that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” Section 1843(b) calls for “regulations requiring all materials, equipment, tools, containers, and all other items used on the Outer Continental Shelf to be properly color coded, stamped, or labeled, wherever practicable, with the owner's identification prior to actual use.”

This collection also incorporates an IC requirement pertaining to Marine Trash and Debris (§ 250.300) that was inadvertently submitted under BOEM. Once OMB approves this ICR, the duplicative hour burden will be removed from the respective BOEM collection.

It needs to be stated that between the 60-day Federal Notice for this collection and now, the Bureau of Ocean Energy Management and Regulatory Enforcement split into two separate agencies. This 30-day notice reflects the requirements being moved from the 1010-0057 OMB control numbering series and requesting a new 1014 OMB control number. The hour burdens for this request have stayed the same as was previously approved by OMB.

Regulations implementing these responsibilities are under 30 CFR 250, Subpart C. Responses are mandatory. No questions of a sensitive nature are asked. BSEE will protect proprietary information according to 30 CFR 250.197, “Data and information to be made available to the public or for limited inspection,” and the Freedom of Information Act (5 U.S.C. 552) and its implementing regulations (43 CFR 2).

In general, BSEE uses the information collected under subpart C to ensure that:

• There is no threat of serious, irreparable, or immediate damage to the marine environment and to identify potential hazards to commercial fishing caused by OCS oil and gas exploration, development, and production activities;

• The lessee or operator records the location of items lost overboard to aid in recovery during site clearance activities on the lease;

• Operations are conducted according to all applicable regulations, permit conditions and requirements, and in a safe and workmanlike manner;

• Discharge or disposal of drill cuttings, sand, and other well solids, including those containing naturally occurring radioactive materials (NORM), are properly handled for the protection of OCS workers and the environment; and

• Facilities are inspected daily for the prevention of pollution, and problems observed are corrected.

Frequency: On occasion, daily.

Description of Respondents: Potential respondents comprise Federal oil, gas, or sulphur lessees and/or operators.

Estimated Reporting and Recordkeeping Hour Burden: The estimated annual hour burden for this information collection is a total of 124,665 hours. The following chart details the individual components and estimated hour burdens. In calculating the burdens, we assumed that respondents perform certain requirements in the normal course of their activities. We consider these to be usual and customary and took that into account in estimating the burden.

Citation 30 CFR 250 Subpart C and related NTL(s) | Reporting and recordkeeping requirement | Hour burden | Average Number of annual responses | Annual burden hours
Pollution Prevention
300(b)(1), (2) | Obtain approval to add petroleum-based substance to drilling mud system or approval for method of disposal of drill cuttings, sand, & other well solids, including those containing NORM | Burden covered under 1014-0018 (30 CFR Part 250, Subpart D) |  | 0.
300(c) | Mark items that could snag or damage fishing devices | 0.5 hour | 130 markings | 65
300(d) | Report and record items lost overboard | 1 hr ea × 2 = 2 hrs | 106 reports/records | 212
Subtotal |  |  | 236 responses | 277 hours
Marine Trash and Debris Awareness/Elimination NTL
NTL; 300(a), (b)(6), (c), (d) | Submit request for training video | 1 hour | 100 requests | 100
| Submit annual report to BSEE on training process and certification | 1 hour | 200 records | 200
| Training recordkeeping; make available upon request | 2 hours | 200 records | 400
| Post placards on vessels and structures (exempt from information collection burden because BSEE is providing exact language for the trash and debris warning, similar to the “Surgeon General's Warning” exemption). |  |  | 0
Subtotal |  |  | 500 responses | 700 hours
Inspection of Facilities
301(a) NTL | Inspect drilling/production facilities for pollution; maintain inspection/repair records 2 years | 15 min per inspection × 365 days = 91.25 hrs | 1,022 manned facilities | 93,258 (rounded)
|  | 5 mins every 3rd day (365/3 = 122) = 10.14 hrs | 3,000 unmanned facilities | 30,420
Subtotal |  |  | 4,022 responses | 123,678 hours
300-301 | General departure and alternative compliance requests not specifically covered elsewhere in subpart C regulations | 2 hour | 5 requests | 10
Subtotal |  |  | 5 responses | 10 hours
Total Burden |  |  | 4,763 Responses | 124,665 Hours

Estimated Reporting and Recordkeeping Non-Hour Cost Burden: We have identified no non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.,) requires each agency “* * * to provide notice * * * and otherwise consult with members of the public and affected agencies concerning each proposed collection of information * * *” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on June 30, 2011, we published a Federal Register notice (76 FR 38410) announcing that we would submit this ICR to OMB for approval. The notice provided the required 60-day comment period. In addition, § 250.199 provides the OMB control number for the information collection requirements imposed by the 30 CFR 250 regulations. The regulation also informs the public that they may comment at any time on the collections of information and provides the address to which they should send comments. We received two comments in response to these efforts. The first comment, submitted by a private citizen, was not germane to the paperwork burden. The second comment was from the Marine Mammal Commission in support of our submittal to OMB.

Public Availability of Comments: Before including your address, phone number, email address, or other personal identifying information in your comment, you should be aware that your entire comment—including your personal identifying information—may be made publicly available at any time. While you can ask us in your comment to withhold your personal identifying information from public review, we cannot guarantee that we will be able to do so.

Dated: August 2, 2012.
Robert W. Middleton,
Deputy Chief, Office of Offshore Regulatory Programs.

[FR Doc. 2012-21245 Filed 8-28-12; 8:45 am]

BILLING CODE 4310-VH-P